DEPARTMENT OF HEALTH AND HUMAN SERVICES

Administration for Children and Families

[CFDA Number: 93.568]

The Low-Income Home Energy Assistance Program Announces the State Median Income Estimates for Federal Fiscal Year 2016

AGENCY: Office of Community Services, ACF, HHS.

ACTION: The Administration for Children and Families (ACF), Office of Community Services (OCS), announces the State Median Income Estimates for a Four-Person Household for the Federal Fiscal Year (FFY) 2016 State Median Income Estimates for Use in the Low Income Home Energy Assistance Program (LIHEAP).

SUMMARY: The Administration for Children and Families (ACF), Office of Community Services (OCS), Division of Energy Assistance (DEA) announces the estimated median income of four-person households in each state, the District of Columbia, and Puerto Rico for FFY 2016 (October 1, 2015, to September 30, 2016).

DATES: These estimates become effective at any time between the date of this publication and the later of (1) October 1, 2015; or (2) the beginning of a grantee's fiscal year.

FOR FURTHER INFORMATION CONTACT: Peter Edelman, Program Analyst, Office of Community Services, 5th Floor West, 370 L'Enfant Promenade SW., Washington, DC 20447. Telephone: 202-401-5292; Email: peter.edelman@acf.hhs.gov.

SUPPLEMENTARY INFORMATION: This notice announces to grantees of the Low Income Home Energy Assistance Program (LIHEAP) the estimated median income of four-person households in each state, the District of Columbia, and Puerto Rico for FFY 2016 (October 1, 2015, to September 30, 2016). LIHEAP grantees that choose to base their income eligibility criteria on these state median income (SMI) estimates may adopt these estimates (up to 60 percent) on their date of publication in the Federal Register or on a later date as discussed in the DATES section. This enables grantees to implement this notice during the period between the heating and cooling seasons. However, by October 1, 2015, or the beginning of the grantee's fiscal year, whichever is later, such grantees must adjust their income eligibility criteria so that they are in accord with the FFY 2016 SMI.

Sixty percent of SMI for each LIHEAP grantee, as annually established by the Secretary of Health and Human Services, is one of the income criteria that LIHEAP grantees may use in determining a household's income eligibility for LIHEAP. The last time LIHEAP was authorized was by the Energy Policy Act of 2005, Public Law 109-58, which was enacted on August 8, 2005. This authorization expired on September 30, 2007, and reauthorization remains pending.

The SMI estimates in this notice are 3-year estimates derived from the American Community Survey (ACS) conducted by the U.S. Census Bureau, U.S. Department of Commerce (Census Bureau).

For additional information about the ACS state median income estimates, including the definition of income and the derivation of medians see http://www.census.gov/acs/www/Downloads/data_documentation/SubjectDefinitions/2013_ACSSubjectDefinitions.pdf under “Income in the Past 12 Months.” For additional information about using the ACS 3-year estimates versus using the 1-year or 5-year estimates, see http://www.census.gov/acs/www/guidance_for_data_users/estimates/. For additional information about the ACS in general, see http://www.census.gov/acs/www/ or contact the Census Bureau's Social, Economic, and Housing Statistics Division at (301) 763-3243.

These SMI estimates, like those derived from any survey, are subject to two types of errors: (1) Non-sampling Error, which consists of random errors that increase the variability of the data and non-random errors that consistently shift the data in a specific direction; and (2) Sampling Error, which consists of the error that arises from the use of probability sampling to create the sample. For additional information about the accuracy of the ACS SMI estimates, see http://www.census.gov/acs/www/Downloads/data_documentation/Accuracy/MultiyearACSAccuracyofData2013.pdf.

In the state-by-state listing of SMI and 60 percent of SMI for a four-person family for FFY 2016, LIHEAP grantees must regard “family” to be the equivalent of “household” with regards to setting their income eligibility criteria. This listing describes the method for adjusting SMI for households of different sizes, as specified in regulations applicable to LIHEAP (45 CFR 96.85(b)). These regulations were published in the Federal Register on March 3, 1988, (53 FR 6827) and amended on October 15, 1999 (64 FR 55858).

Estimated State Median Income for Four-Person Families, by State, for Federal Fiscal Year (FFY) 2016, for Use in the Low Income Home Energy Assistance Program (LIHEAP)
States | Estimated state median income for four-person families ¹ | 60 percent of estimated state median income for four-person families 2 3
Alabama | $66,253 | $39,752
Alaska | 90,307 | 54,184
Arizona | 65,138 | 39,083
Arkansas | 58,262 | 34,957
California | 77,106 | 46,264
Colorado | 85,915 | 51,549
Connecticut | 106,193 | 63,716
Delaware | 85,925 | 51,555
District of Columbia | 83,794 | 50,276
Florida | 65,764 | 39,458
Georgia | 68,448 | 41,069
Hawaii | 86,495 | 51,897
Idaho | 62,002 | 37,201
Illinois | 82,918 | 49,751
Indiana | 72,299 | 43,379
Iowa | 79,300 | 47,580
Kansas | 75,709 | 45,425
Kentucky | 69,239 | 41,543
Louisiana | 71,516 | 42,910
Maine | 76,455 | 45,873
Maryland | 107,438 | 64,463
Massachusetts | 106,173 | 63,704
Michigan | 75,711 | 45,427
Minnesota | 92,111 | 55,267
Mississippi | 57,024 | 34,214
Missouri | 72,647 | 43,588
Montana | 68,720 | 41,232
Nebraska | 77,165 | 46,299
Nevada | 66,461 | 39,877
New Hampshire | 98,638 | 59,183
New Jersey | 105,700 | 63,420
New Mexico | 60,534 | 36,320
New York | 86,316 | 51,790
North Carolina | 67,706 | 40,624
North Dakota | 88,725 | 53,235
Ohio | 76,875 | 46,125
Oklahoma | 64,907 | 38,944
Oregon | 70,295 | 42,177
Pennsylvania | 83,730 | 50,238
Rhode Island | 89,353 | 53,612
South Carolina | 63,706 | 38,224
South Dakota | 74,498 | 44,699
Tennessee | 66,060 | 39,636
Texas | 69,517 | 41,710
Utah | 70,740 | 42,444
Vermont | 82,781 | 49,669
Virginia | 92,379 | 55,427
Washington | 85,013 | 51,008
West Virginia | 67,613 | 40,568
Wisconsin | 82,053 | 49,232
Wyoming | 79,777 | 47,866
Puerto Rico | 29,188 | 17,513
¹ These figures were prepared by the U.S. Census Bureau, U.S. Department of Commerce (Census Bureau), from 3-year estimates from the 2011, 2012, and 2013 American Community Surveys (ACSs). These estimates, like those derived from any survey, are subject to two types of error: (1) Non-sampling Error, which consists of random errors that increase the variability of the data and non-random errors that consistently direct the data in a specific direction; and (2) Sampling Error, which consists of the error that arises from the use of probability sampling to create the sample.
² These figures were calculated by the U.S. Department of Health and Human Services, Administration for Children and Families, Office of Community Services, Division of Energy Assistance by multiplying the estimated state median income for a four-person family for each state by 60 percent.
³ To adjust for different sizes of households for LIHEAP purposes, 45 CFR 96.85 calls for multiplying 60 percent of a state's estimated median income for a four-person family by the following percentages: 52 percent for a one-person household, 68 percent for a two-person household, 84 percent for a three-person household, 100 percent for a four-person household, 116 percent for a five-person household, and 132 percent for a six-person household. For each additional household member above six people, 45 CFR 96.85 calls for adding 3 percentage points to the percentage for a six-person household (132 percent) and multiplying the new percentage by 60 percent of the median income for a four-person family.

Note: FFY 2016 covers the period of October 1, 2015, through September 30, 2016. The estimated median income for four-person families living in the United States for this period is $77,507. Grantees that use SMI for LIHEAP may, at their option, employ such estimates at any time between the date of this publication and the later of October 1, 2015 or the beginning of their fiscal year.

Statutory Authority: 45 CFR 96.85(b) and 42 U.S.C. 8624(b)(2)(B)(ii).

Jeannie L. Chaffin,
Director, Office of Community Services.

[FR Doc. 2015-14187 Filed 6-9-15; 8:45 am]

BILLING CODE 4184-01-P